DEPARTMENT OF ENERGY

Federal Energy Regulatory Commission

[Project No. 2146-081 Alabama]

Alabama Power Company; Notice of Meeting and Extension of Time To File Comments on Draft Environmental Assessment

September 20, 2000.

Take notice that on October 19, 2000, Federal Energy Regulatory Commission (Commission) staff will meet with the U.S. Army Corps of Engineers (Corps) and Alabama Power Company (APC), licensee for the Coosa River Hydroelectric Project No. 2146. The purpose of the meeting is to discuss a draft environmental assessment (DEA) jointly issued by the Commission and Corps on August 29, 2000. The DEA analyzes the environmental impacts of APC's proposed Interim Flood Control Plan and rule curve change for Neely Henry Reservoir, part of the Coosa River Hydroelectric Project.

The meeting will take place at 9:00 am (eastern standard time) at the Commission's offices located at 888 First Street, NE., Washington, DC 20426. Those interested in participating should contact Steve Hocking at (202) 219-2656.

Take notice that Commission staff are also extending the time to file comments on the DEA. The comment closing date was September 29, 2000. The new extended comment closing date is November 2, 2000. Anyone may file comments on the DEA. The public, federal and state resource agencies are encouraged to provide comments. Send an original and eight copies of all comments marked with the project number P-2146-081 to: The Secretary, Federal Energy Regulatory Commission, 888 First Street, NE., Washington, DC 20426. The DEA may be viewed on the web at http://www.ferc.fed.us/online/rims.htm (please call (202) 208-2222 for assistance).

If you have any questions regarding this notice, please call Steve Hocking at (202) 219-2656.

David P. Boergers,
Secretary.

[FR Doc. 00-24616 Filed 9-25-00; 8:45 am]

BILLING CODE 6717-01-M